DEPARTMENT OF TRANSPORTATION

Federal Motor Carrier Safety Administration

[Docket No. FMCSA-2006-24783]

Qualification of Drivers; Exemption Applications; Vision

AGENCY: Federal Motor Carrier Safety Administration (FMCSA), DOT.

ACTION: Notice of applications for exemptions; request for comments.

SUMMARY: FMCSA announces receipt of applications from 47 individuals for exemption from the vision requirement in the Federal Motor Carrier Safety Regulations. If granted, the exemptions would enable these individuals to qualify as drivers of commercial motor vehicles (CMVs) in interstate commerce without meeting the Federal vision standard.

DATES: Comments must be received on or before July 3, 2006.

ADDRESSES: You may submit comments identified by Department of Transportation (DOT) Docket Management System (DMS) Docket Number FMCSA-2006-24783 using any of the following methods:

• Web site: http://dmses.dot.gov/submit. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: Go to http://www.regulations.gov. Follow the online instructions for submitting comments.

Instructions: All submissions must include the Agency name and docket number for this Notice. Note that all comments received will be posted without change to http://dms.dot.gov including any personal information provided. Please see the Privacy Act heading for further information.

Docket: For access to the docket to read background documents or comments received, go to http://dms.dot.gov at any time or Room PL-401 on the plaza level of the Nassif Building, 400 Seventh Street, SW., Washington, DC, between 9 a.m. and 5 p.m., Monday through Friday, except Federal holidays. The DMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review the DOT's complete Privacy Act Statement in the Federal Register published on April 11, 2000 (65 FR 19477; Apr. 11, 2000). This information is also available at http://dms.dot.gov.

FOR FURTHER INFORMATION CONTACT: Dr. Mary D. Gunnels, Chief, Physical Qualifications Division, (202) 366-4001, maggi.gunnels@dot.gov, FMCSA, Department of Transportation, 400 Seventh Street, SW., Room 8301, Washington, DC 20590-0001. Office hours are from 8:30 a.m. to 5 p.m., Monday through Friday, except Federal holidays.

SUPPLEMENTARY INFORMATION:

Background

Under 49 U.S.C. 31136(e) and 31315, FMCSA may grant an exemption for a 2-year period if it finds “such exemption would likely achieve a level of safety that is equivalent to, or greater than, the level that would be achieved absent such exemption.” FMCSA can renew exemptions at the end of each 2-year period. The 47 individuals listed in this Notice each have requested an exemption from the vision requirement in 49 CFR 391.41(b)(10), which applies to drivers of CMVs in interstate commerce. Accordingly, the Agency will evaluate the qualifications of each applicant to determine whether granting the exemption will achieve the required level of safety mandated by statute.

Qualifications of Applicants

Jawad K. Al-Shaibani

Mr. Al-Shaibani, age 43, has a prosthetic right eye due to a traumatic injury sustained in 1989 that caused a retinal detachment. The best corrected visual acuity in his left eye 20/20. Following an examination in 2006, his optometrist noted, “He has sufficient vision for driving commercial vehicles.” Mr. Al-Shaibani reported that he has driven straight trucks for 7 years, accumulating 280,000 miles, and tractor-trailer combinations for 2 years, accumulating 100,000 miles. He holds a Class A Commercial Driver's License (CDL) from Washington. His driving record for the last 3 years shows no crashes or convictions for moving violations in a CMV.

Kenneth J. Bernard

Mr. Bernard, 54, has had amblyopia in his right eye since birth. The visual acuity in his right eye is count-finger-vision and in the left, 20/20. Following an examination in 2006, his ophthalmologist noted, “With these results, I have found Mr. Bernard's vision sufficient enough to perform driving tasks required to operate a commercial vehicle.” Mr. Bernard reported that he has driven straight trucks for 34 years, accumulating 889,440 miles. He holds a Class D Chauffeur's license from Louisiana. His driving record for the last 3 years shows no crashes or convictions for moving violations in a CMV.

Allen G. Bors

Mr. Bors, 65, has a prosthetic right eye due to a traumatic injury sustained as a child. The best corrected visual acuity in his left eye is 20/15. Following an examination in 2006, his ophthalmologist noted, “In my medical opinion, he has sufficient vision to perform the driving tasks required to operate a commercial vehicle.” Mr. Bors reported that he has driven straight trucks for 44 years, accumulating 499,972 miles, and tractor-trailer combinations for 26 years, accumulating 99,996 miles. He holds a Class A CDL from Nebraska. His driving record for the last 3 years shows no crashes or convictions for moving violations in a CMV.

Douglas L. Brazil

Mr. Brazil, 56, has had amblyopia in his right eye since birth. The best corrected visual acuity in his right eye is 20/200 and in the left, 20/15. Following an examination in 2005, his optometrist noted, “Douglas Brazil has sufficient vision to perform the driving tasks required to operate a commercial vehicle.” Mr. Brazil reported that he has driven straight trucks for 9 years, accumulating 70,200 miles, tractor-trailer combinations for 19 years, accumulating 1.8 million miles, and buses for 5 years, accumulating 130,000 miles. He holds a Class C CDL from Georgia. His driving record for the last 3 years shows no crashes or convictions for moving violations in a CMV.

John E. Breslin

Mr. Breslin, 39, has had amblyopia in his left eye since childhood. The visual acuity in his right eye is 20/20 and in the left, 20/200. Following an examination in 2006, his optometrist noted, “I feel that John presents adequate vision for operating a commercial vehicle safely.” Mr. Breslin reported that he has driven straight trucks for 20 years, accumulating 300,000 miles, and tractor-trailer combinations for 20 years, accumulating 1.1 million miles. He holds a Class A CDL from Nevada. His driving record for the last 3 years shows no crashes or convictions for moving violations in a CMV.

Marcus S. Burkholder

Mr. Burkholder, 71, has a cataract in his left eye due to a traumatic injury sustained in 1950. The best corrected visual acuity in his right eye is 20/20 and in the left, light perception. Following an examination in 2005, his optometrist noted, “Despite having no usable vision in his left eye, Mr. Burkholder has normal correctable vision in his right eye and in my opinion with glasses should be able to perform the driving tasks required to operate a commercial vehicle.” Mr. Burkholder reported that he has driven straight trucks for 3 years, accumulating 450 miles, and buses for 13 years, accumulating 65,000 miles. He holds a Class B CDL from Michigan. His driving record for the last 3 years shows no crashes or convictions for moving violations in a CMV.

Raymond L. Brush

Mr. Brush, 52, has complete loss of vision in his right eye due to a traumatic injury sustained in 1978 that caused optic neuropathy. The best corrected visual acuity in his left eye is 20/25. Following an examination in 2005, his ophthalmologist noted, “In my opinion, this patient has sufficient vision to perform the driving tasks required to operate a commercial vehicle.” Mr. Brush reported that he has driven straight trucks for 7 years, accumulating 126,000 miles. He holds a Class D operator's license from Ohio. His driving record for the last 3 years shows no crashes or convictions for moving violations in a CMV.

Scott F. Chalfant

Mr. Chalfant, 38, has had amblyopia in his right eye since childhood. The visual acuity in his right eye is 20/200 and in the left, 20/20. Following an examination in 2005, his optometrist noted, “It is my opinion that Mr. Chalfant has adequate vision for operating a commercial vehicle given the findings of my examination.” Mr. Chalfant reported that he has driven straight trucks for 15 years, accumulating 140,000 miles. He holds a Class A CDL from Delaware. His driving record for the last 3 years shows no crashes or convictions for moving violations in a CMV.

Leroy A. Chambers

Mr. Chambers, 50, has a prosthetic left eye due to anophthalmia since 2002. The visual acuity in his right eye is 20/20. Following an examination in 2005, his ophthalmologist noted, “He has very good experience as a commercial driver, and I believe he can safely continue in his job with his current visual status”. Mr. Chambers reported that he has driven tractor-trailer combinations for 26 years, accumulating 1.6 million miles. He holds a Class A CDL from Ohio. His driving record for the last 3 years shows no crashes and one conviction for a moving violation in a CMV, failure to obey a traffic sign.

Harvis P. Cosby

Mr. Cosby, 55, has had amblyopia in his right eye since childhood. The visual acuity in his right eye is 20/100 and in the left, 20/15. Following an examination in 2005, his ophthalmologist noted, “It is my professional opinion that this patient should have sufficient vision and visual field to perform the tasks of operating a commercial vehicle.” Mr. Cosby reported that he has driven straight trucks for 12 years, accumulating 408,000 miles, tractor-trailer combinations for 20 years, accumulating 1.3 million miles, and buses for 5 years, accumulating 120,000 miles. He holds a Class A CDL from Maryland. His driving record for the last 3 years shows no crashes or convictions for moving violations in a CMV.

Joseph H. Fowler

Mr. Fowler, 70, has had amblyopia in his right eye since childhood. The best corrected visual acuity in his right eye is 20/400 and in the left, 20/25. Following an examination in 2005, his ophthalmologist noted, “In my medical opinion, he has sufficient vision to perform driving tasks while operating a commercial vehicle.” Mr. Fowler reported that he has driven straight trucks for 40 years, accumulating 200,000 miles, and tractor-trailer combinations for 40 years, accumulating 2.8 million miles. He holds a Class A CDL from Colorado. His driving record for the last 3 years shows one crash and no convictions for moving violations in a CMV.

Francisco Espinal

Mr. Espinal, 42, has complete loss of vision in his right eye due to a traumatic injury sustained in 1984. The best corrected visual acuity in his left eye is 20/15. Following an examination in 2005, his optometrist noted, “Mr. Espinal has excellent vision in his left eye. I feel that he has sufficient vision to perform the driving tasks required to operate a commercial vehicle.” Mr. Espinal reported that he has driven straight trucks for 14 years, accumulating 266,000 miles, and tractor-trailer combinations for 7 years, accumulating 21,000 miles. He holds a Chauffeur's license from Indiana. His driving record for the last 3 years shows no crashes or convictions for moving violations in a CMV.

Brian G. Hagen

Mr. Hagen, 34, has loss of vision in his left eye due to a traumatic injury he sustained in 1990. The best corrected visual acuity in his right eye is 20/20 and in the left, 20/400. Following an examination in 2006, his optometrist noted, “In my medical opinion, Brian Hagen has sufficient vision to perform the driving tasks required to operate a commercial vehicle.” Mr. Hagen reported that he has driven straight trucks for 4 years, accumulating 46,800 miles. He holds a Class C operator's license from Illinois. His driving record for the last 3 years shows no crashes and one conviction for a moving violation in a CMV, failure to obey a traffic sign.

Edward J. Hess, Jr.

Mr. Hess, 56, has retinal detachment in his left eye due to a traumatic injury sustained as a child. The best corrected visual acuity in his right eye is 20/20 and in the left, hand-movement-vision at four feet. Following an examination in 2005, his ophthalmologist noted, “It is my medical opinion that Mr. Hess has sufficient vision to perform the driving tasks required to operate a commercial vehicle.” Mr. Hess reported that he has driven straight trucks for 3 years, accumulating 45,000 miles. He holds an operator's license from New Hampshire. His driving record for the last 3 years shows no crashes or convictions for moving violations in a CMV.

Ralph E. Holmes

Mr. Holmes, 57, has had amblyopia in his right eye since childhood. The best corrected visual acuity in his right eye is 20/400 and in the left, 20/20. Following an examination in 2005, his optometrist noted, “Ralph Holmes has sufficient vision to drive a commercial vehicle.” Mr. Holmes reported that he has driven straight trucks for 35 years, accumulating 595,000 miles. He holds a Class A CDL from Maryland. His driving record for the last 3 years shows no crashes and one conviction for driving a CMV in violation of license restriction.

Timothy B. Hummel

Mr. Hummel, 49, has complete loss of vision in his right eye due to a traumatic injury he sustained in 2000. The visual acuity in his left eye is 20/25. Following an examination in 2005, his ophthalmologist noted, “I certify that in my medical opinion, he has sufficient vision to perform the driving task required to operate a commercial vehicle.” Mr. Hummel reported that he has driven tractor-trailer combinations for 8 years, accumulating 800,000 miles. He holds a Class A CDL from Kentucky. His driving record for the last 3 years shows one crash and no convictions for moving violations in a CMV.

Larry L. Jarvis

Mr. Jarvis, 65, has complete loss of vision in his right eye due to a traumatic injury he sustained as a child. The best corrected visual acuity in his left eye is 20/25. Following an examination in 2006, his optometrist noted, “Based on years of adaptation, Mr. Jarvis is visually qualified to continue in his profession as a commercial driver.” Mr. Jarvis reported that he has driven straight trucks for 3 years, accumulating 135,000 miles. He holds a Class A CDL from Virginia. His driving record for the last 3 years shows no crashes or convictions for moving violations in a CMV.

Charles E. Johnston

Mr. Johnston, 46, has a macular scar in his right eye due to a toxoplasmosis infection sustained as a child. The best corrected visual acuity in his right eye is 20/200 and in the left, 20/20. Following an examination in 2006, his ophthalmologist noted, “The vision loss in the right eye is long-standing and was present when the patient began to drive. Thus I feel he is capable of driving commercial vehicles as he had in the past.” Mr. Johnston reported that he has driven straight trucks for 7½ years, accumulating 138,750 miles, and tractor-trailer combinations for 7½ years, accumulating 11,250 miles. He holds a Class A CDL from Missouri. His driving record for the last 3 years shows no crashes or convictions for moving violations in a CMV.

Volga Kirkwood

Mr. Kirkwood, 46, had his left eye enucleated due to a traumatic injury he sustained as a child. The best corrected visual acuity in his right eye is 20/20. Following an examination in 2006, his optometrist noted, “I have confidence that vision is not impaired in his right eye and his monocular field of vision is adequate to operate a commercial vehicle.” Mr. Kirkwood reported that he has driven straight trucks for 23 years, accumulating 1.3 million miles. He holds a Class B CDL from Missouri. His driving record for the last 3 years shows no crashes or convictions for moving violations in a CMV.

Richard M. Kriege

Mr. Kriege, 69, has corneal scaring and retinal detachment in his right eye due to an injury he sustained in 1985. The best corrected visual acuity in his right eye is 20/70 and in the left, 20/15. Following an examination in 2005, his optometrist noted, “In my medical opinion, and that of Dr. Mathews, he has sufficient binocular vision to perform the driving tasks required to operate a commercial vehicle.” Mr. Kriege reported that he has driven tractor-trailer combinations for 40 years, accumulating 3.2 million miles. He holds a Class A CDL from Oregon. His driving record for the last 3 years shows no crashes or convictions for moving violations in a CMV.

David C. Leoffler

Mr. Leoffler, 42, has had amblyopia in his left eye since childhood. The best corrected visual acuity in his right eye is 20/15 and in the left, 20/400. Following an examination in 2006, his ophthalmologist noted, “In my medical opinion, my patient, David Leoffler has sufficient vision to perform the driving task required to operate a commercial vehicle.” Mr. Leoffler reported that he has driven straight trucks for 8 years, accumulating 160,000 miles, and tractor-trailer combinations for 8 years, accumulating 680,000 miles. He holds a Class A CDL from California. His driving record for the last 3 years shows no crashes or convictions for moving violations in a CMV.

John C. Lewis

Mr. Lewis, 36, has had amblyopia in his left eye since childhood. The best corrected visual acuity in his right eye is 20/25 and in the left, 20/200. Following an examination in 2005, his optometrist noted, “It is my opinion that Mr. John Lewis has sufficient vision to perform the driving tasks required to operate a commercial vehicle.” Mr. Lewis reported that he has driven straight trucks for 6 years, accumulating 495,000 miles and tractor-trailer combinations for 4½ years, accumulating 600,000 miles. He holds a Class D operator's license from South Carolina. His driving record for the last 3 years shows no crashes or convictions for moving violations in a CMV.

Patrick E. Martin

Mr. Martin, 53, has had amblyopia in his right eye since birth. The best corrected visual acuity in his right eye is 20/200 and in the left, 20/20. Following an examination in 2006, his optometrist noted, “Mr. Martin has sufficient vision to perform the driving tasks of a commercial vehicle.” Mr. Martin reported that he has driven straight trucks for 37 years, accumulating 1 million miles, and tractor-trailer combinations for 19 years, accumulating 1.6 million miles. He holds a Class A CDL from Washington. His driving record for the last 3 years shows no crashes or convictions for moving violations in a CMV.

Leland K. McAlhaney

Mr. McAlhaney, 57, has had amblyopia in his right eye since childhood. The best corrected visual acuity in his right eye is 20/70 and in the left, 20/30. His optometrist examined him in 2006 and noted, “It is my professional opinion that Mr. McAlhaney has the vision and visual performance to safely operate a commercial vehicle on public roads.” Mr. McAlhaney reported that he has driven straight trucks for 30 years, accumulating 600,000 miles, and tractor-trailer combinations for 20 years, accumulating 490,000 miles. He holds a Class A CDL from Indiana. His driving record for the last 3 years shows no crashes or convictions for moving violations in a CMV.

William C. Mohr

Mr. Mohr, 51, has had amblyopia in his right eye due to an injury sustained as a child. The best corrected visual acuity in his right eye is light perception and in the left, 20/20. Following an examination in 2006, his optometrist noted, “In my opinion, Mr. Mohr has sufficient vision to perform the driving tasks required to operate a commercial vehicle.” Mr. Mohr reported that he has driven straight trucks for 25 years, accumulating 794,200 miles, and buses for 1 year, accumulating 25,000 miles. He holds a Class B CDL from Delaware. His driving record for the last 3 years shows no crashes or convictions for moving violations in a CMV.

Roger Moody

Mr. Moody, 54, has a corneal scar in his right eye due to a traumatic injury sustained more than 20 years ago. The best corrected visual acuity in his right eye is 20/50 and in the left, 20/20. Following an examination in 2006, his ophthalmologist noted, “This condition is stable, and in my opinion, he has sufficient visual acuity and peripheral acuity to perform the driving tasks required to operate a commercial vehicle.” Mr. Moody reported that he has driven straight trucks for 20 years, accumulating 420,000 miles, tractor-trailer combinations for 7 years, accumulating 112,000 miles, and buses for 14 years, accumulating 2,800 miles. He holds a Class A CDL from Maryland. His driving record for the last 3 years shows no crashes or convictions for moving violations in a CMV.

Larry A. Nienhuis

Mr. Nienhuis, 58, has had aphakia in his left eye since 1985. The best corrected visual acuity in his right eye is 20/20 and in the left, count-finger-vision at one foot. Following an examination in 2006, his ophthalmologist noted, “In my medical opinion, Mr. Nienhuis does have sufficient vision to perform the driving tasks required to operate a commercial vehicle.” Mr. Nienhuis reported that he has driven straight trucks for 19 years, accumulating 140,600 miles and tractor-trailer combinations for 11 years, accumulating 704,000 miles. He holds a Class A CDL from Michigan. His driving record for the last 3 years shows no crashes and one conviction for a moving violation, speeding in a CMV. He exceeded the speed limit by 15 mph.

Corey L. Paraf

Mr. Paraf, 43, has had amblyopia in his right eye since childhood. The best corrected visual acuity in his right eye is 20/100 and in the left, 20/20. Following an examination in 2006, his ophthalmologist noted, “In my expert medical opinion, he has sufficient vision to perform the driving tasks required to operate a commercial vehicle.” Mr. Paraf reported that he has driven straight trucks for 9 years, accumulating 72,000 miles. He holds a Class C operator's license from Illinois. His driving record for the last 3 years shows no crashes or convictions for moving violations in a CMV.

John J. Pribanic

Mr. Pribanic, 48, has a prosthetic left eye due to a traumatic injury sustained as a child. The visual acuity in his right eye is 20/20. Following an examination in 2005, his optometrist noted, “Mr. Pribanic in my professional opinion has sufficient vision to safely operate a commercial vehicle.” Mr. Pribanic reported that he has driven straight trucks for 1 year, accumulating 50,000 miles, and tractor-trailer combinations for 12 years, accumulating 900,000 miles. He holds a Class A CDL from Alabama. His driving record for the last 3 years shows no crashes or convictions for moving violations in a CMV.

Ronald M. Price

Mr. Price, 63, has had amblyopia in his right eye since childhood. The best corrected visual acuity in his right eye is 20/200 and in the left, 20/30. Following an examination in 2005, his ophthalmologist noted, “In my opinion, he has sufficient vision to perform the driving tasks required to operate a commercial vehicle.” Mr. Price reported that he has driven straight trucks for 45 years, accumulating 405,000 miles, and tractor-trailer combinations for 45 years, accumulating 810,000 miles. He holds a Class A CDL from Maryland. His driving record for the last 3 years shows no crashes or convictions for moving violations in a CMV.

John P. Raftis

Mr. Raftis, 53, has had amblyopia in his right eye since childhood. The best corrected visual acuity in his right eye is 20/60 and in the left, 20/20. Following an examination in 2005, his optometrist noted, “It is my opinion that Mr. Raftis has more than adequate vision to perform required driving tasks.” Mr. Raftis reported that he has driven straight trucks for 14 years, accumulating 400,400 miles, and tractor-trailer combinations for 13 years, accumulating 832,000 miles. He holds a Class A CDL from Florida. His driving record for the last 3 years shows no crashes or convictions for moving violations in a CMV.

Matthew B. Richardson

Mr. Richardson, 37, has complete loss of vision in his right eye due to a traumatic injury sustained as a child. The visual acuity in his left eye is 20/20. Following an examination in 2006, his optometrist noted, “It is therefore, my opinion that this patient has sufficient vision to operate a commercial motor vehicle.” Mr. Richardson reported that he has driven straight trucks for 18 years, accumulating 180,000 miles, tractor-trailer combinations for 4 years, accumulating 340,000 miles, and buses for 2 years, accumulating 20,000 miles. He holds a Class A CDL from North Carolina. His driving record for the last 3 years shows no crashes or convictions for moving violations in a CMV.

Bruce G. Robinson

Mr. Robinson, 37, has had amblyopia in his right eye since childhood. The best corrected visual acuity in his right eye is 20/400 and in the left, 20/20. Following an examination in 2005, his optometrist noted, “I feel Mr. Robinson has sufficient vision to drive a commercial vehicle as he has been doing so for many years now.” Mr. Robinson reported that he has driven straight trucks for 16 years, accumulating 104,320 miles, and tractor-trailer combinations for 13 years, accumulating 260,000 miles. He holds a Class A CDL from Kentucky. His driving record for the last 3 years shows no crashes or convictions for moving violations in a CMV.

Alton M. Rutherford

Mr. Rutherford, 50, has aphakia in his right eye due to a traumatic injury he sustained in 1988. The visual acuity in his right eye is 20/100 and in the left, 20/20. Following an examination in 2006, his ophthalmologist noted, “In my medical opinion as a board certified ophthalmologist, Mr. Rutherford has sufficient vision to perform the driving tasks required to operate a commercial vehicle.” Mr. Rutherford reported that he has driven straight trucks for 10 years, accumulating 120,000 miles, and tractor-trailer combinations for 3 years, accumulating 108,000 miles. He holds a Class A CDL from Florida. His driving record for the last 3 years shows no crashes or convictions for moving violations in a CMV.

Wayne N. Savoy

Mr. Savoy, 53, has complete loss of vision in his right eye due to a traumatic injury he sustained as a child. The visual acuity in his left eye is 20/20. Following an examination in 2005, his ophthalmologist noted, “His central and peripheral visions are certainly sufficient to perform the driving task required to operate a commercial vehicle.” Mr. Savoy reported that he has driven straight trucks for 26 years, accumulating 936,000 miles. He holds a Class D operator's license from Oklahoma. His driving record for the last 3 years shows no crashes or convictions for moving violations in a CMV.

Richard A. Schneider

Mr. Schneider, 56, has had amblyopia in his left eye since childhood. The visual acuity in his right eye is 20/20 and in the left, 20/100. Following an examination in 2006, his ophthalmologist noted, “Given his 20/20 vision, I do believe he has sufficient vision to perform the driving tasks required to operate a commercial vehicle.” Mr. Schneider reported that he has driven straight trucks for 23 years, accumulating 149,500 miles, tractor-trailer combinations for 5 years, accumulating 25,000 miles, and buses for 81/2 years, accumulating 161,500 miles. He holds a Class B CDL from Minnesota. His driving record for the last 3 years shows no crashes or convictions for moving violations in a CMV.

Joseph B. Shaw, Jr.

Mr. Shaw, 34, has had amblyopia in his right eye since childhood. The best corrected visual acuity in his right eye is 20/100 and in the left, 20/20. Following an examination in 2006, his optometrist noted, “In my opinion, Joseph Bernard Shaw, Jr. has sufficient vision to perform the driving tasks required to operate a commercial vehicle.” Mr. Shaw reported that he has driven tractor-trailer combinations for 3 years, accumulating 600,000 miles. He holds a Class A CDL from Virginia. His driving record for the last 3 years shows no crashes or convictions for moving violations in a CMV.

David. W. Skillman

Mr. Skillman, 45, has retinal scarring due to toxoplasmosis in his right eye sustained more than 20 years ago. The best corrected visual acuity in his right eye is 20/400 and in the left, 20/20. Following an examination in 2006, his optometrist noted, “He has been driving commercially for many years, and he has sufficient vision to continue as a commercial driver.” Mr. Skillman reported that he has driven tractor-trailer combinations for 20 years, accumulating 1.3 million miles. He holds a Class A CDL from Washington. His driving record for the last 3 years shows no crashes and one conviction for moving violations in a CMV, failure to keep in proper lane.

Thomas G. Smith

Mr. Smith, 45, has a prosthetic right eye due to a retinal detachment in 1978. The best corrected visual acuity in his left eye is 20/30. Following an examination in 2005, his optometrist noted, “Has sufficient vision to perform the driving tasks required to operate commercial vehicle.” Mr. Smith reported that he has driven straight trucks for 8 years, accumulating 180,000 miles, and tractor-trailer combinations for 11 years, accumulating 286,000 miles. He holds a Class A CDL from North Carolina. His driving record for the last 3 years shows no crashes or convictions for moving violations in a CMV.

Sandra J. Sperling

Ms. Sperling, 61, has had amblyopia in her left eye since childhood. The best corrected visual acuity in her right eye is 20/25 and in the left, 20/200. Following an examination in 2005, her ophthalmologist noted, “It is my medical opinion that Ms. Sperling, 60-years-old, has adapted well to her amblyopia and has sufficient vision to perform driving tasks that she has been performing for numerous years in a commercial vehicle.” Ms. Sperling reported that she has driven buses for 35 years, accumulating 630,000 miles. She holds a Class B CDL from Washington. Her driving record for the last 3 years shows one crash and no convictions for moving violations in a CMV.

Kenneth C. Steele

Mr. Steele, 54, has had amblyopia in his left eye since birth. The best corrected visual acuity in his right eye is 20/20 and in the left, 20/200. Following an examination in 2005, his optometrist noted, “In my opinion, Mr. Steele has sufficient vision to perform driving tasks required to operate a commercial vehicle.” Mr. Steele reported that he has driven straight trucks for 2 years, accumulating 100,000 miles, and tractor-trailer combinations for 10 years, accumulating 1 million miles. He holds a Class A CDL from Texas. His driving record for the last 3 years shows one crash and no convictions for moving violations in a CMV.

Ryan K. Steelman

Mr. Steelman, 39, has had amblyopia in his right eye since birth. The best corrected visual acuity in his right eye is 20/80 and in the left, 20/20. Following an examination in 2006, his optometrist noted, “It is my opinion that Ryan's vision is sufficient to perform commercial driving tasks.” Mr. Steelman reported that he has driven straight trucks for 15 years, accumulating 300,000 miles, and tractor-trailer combinations for 12 years, accumulating 480,000 miles. He holds a Class A CDL from Oregon. His driving record for the last 3 years shows no crashes or convictions for moving violations in a CMV.

Paul D. Totty

Mr. Totty, 37, has had a macular hole in his left eye due to vitreous traction since childhood. The best corrected visual acuity in his right eye is 20/20 and in the left, 20/200. Following an examination in 2006, his optometrist noted, “Patient has sufficient vision to perform the driving tasks required to operate a commercial vehicle.” Mr. Totty reported that he has driven straight trucks for 10 years, accumulating 120,000 miles. He holds a Class D operator's license from Arkansas. His driving record for the last 3 years shows no crashes or convictions for moving violations in a CMV.

Charles V. Tracey

Mr. Tracey, 63, has had amblyopia in his left eye since childhood. The best corrected visual acuity in his right eye is 20/20 and in the left, 20/100. Following an examination in 2005, his optometrist noted, “In my opinion, Mr. Tracey has sufficient vision to perform driving tasks required to operate a commercial vehicle.” Mr. Tracey reported that he has driven straight trucks for 45 years, accumulating 786,915 miles. He holds a Class B CDL from Maryland. His driving record for the last 3 years shows no crashes or convictions for moving violations in a CMV.

Duane L. Tysseling

Mr. Tysseling, 56, has had keratoconus in his right eye since 1985. The best corrected visual acuity in his right eye is 20/50 and in the left, 20/20. Following an examination in 2005, his optometrist noted, “It is my opinion that Duane does have sufficient vision to perform the driving tasks required to operate a commercial vehicle.” Mr. Tysseling reported that he has driven straight trucks for 11/2 years, accumulating 45,000 miles, and tractor-trailer combinations for 21 years, accumulating 525,000 miles. He holds a Class A CDL from Iowa. His driving record for the last 3 years shows no crashes or convictions for moving violations in a CMV.

Richard A. Westfall

Mr. Westfall, 48, has coloboma of the right eye since birth. The best corrected visual acuity in his right eye is count-finger-vision at one foot and in the left, 20/20. Following an examination in 2005, his optometrist noted, “In my opinion, judging from his examination and these tests, along with his longstanding excellent driving record, he has sufficient vision to operate a commercial vehicle.” Mr. Westfall reported that he has driven straight trucks for 6 years, accumulating 420,000 miles and tractor-trailer combinations for 20 years, accumulating 2 million miles. He holds a Class A CDL from Ohio. His driving record for the last 3 years shows no crashes or convictions for moving violations in a CMV.

Leonard R. Wilson

Mr. Wilson, 59, has had amblyopia in his left eye since childhood. The best corrected visual acuity in his right eye is 20/20 and in the left, 20/200. Following an examination in 2005, his optometrist noted, “In my opinion, Mr. Wilson has sufficient vision to perform the driving tasks required to operate a commercial vehicle.” Mr. Wilson reported that he has driven straight trucks for 35 years, accumulating 175,000 miles. He holds a Class B CDL from New Hampshire. His driving record for the last 3 years shows no crashes or convictions for moving violations in a CMV.

Request for Comments

In accordance with 49 U.S.C. 31136(e) and 31315, FMCSA requests public comment from all interested persons on the exemption petitions described in this Notice. The Agency will consider all comments received before the close of business July 3, 2006. Comments will be available for examination in the docket at the location listed under the ADDRESSES section of this Notice. The Agency will file comments received after the comment closing date in the public docket, and will consider them to the extent practicable. In addition to late comments, FMCSA will also continue to file, in the public docket, relevant information that becomes available after the comment closing date. Interested persons should monitor the public docket for new material.

Issued on: May 26, 2006.
Pamela M. Pelcovits,
Acting Associate Administrator, Policy and Program Development.

[FR Doc. E6-8588 Filed 6-1-06; 8:45 am]

BILLING CODE 4910-EX-P